DEPARTMENT OF TRANSPORTATION

Federal Aviation Administration

14 CFR Part 39

[Docket No. FAA-2015-4204; Directorate Identifier 2015-NM-001-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A300 B4-600, B4-600R, and F4-600R series airplanes, and Model A300 C4-605R Variant F airplanes (collectively called Model A300-600 series airplanes) modified by a particular supplemental type certificate (STC). This proposed AD was prompted by a report of chafing found on the overflow sensor harness of the surge tank, and subsequent contact between the electrical wiring and fuel tank structure. This proposed AD would require a one-time inspection for damage of the outer tank of the overflow sensor harness, and repair if necessary. This proposed AD would also require modification of the sensor harness. We are proposing this AD to prevent chafing of the harness and subsequent contact between the electrical wiring and fuel tank structure, which could result in electrical arcing and a fuel tank explosion.

DATES: We must receive comments on this proposed AD by December 7, 2015.

ADDRESSES: You may send comments using the procedures found in 14 CFR 11.43 and 11.45, by any of the following methods:

Federal eRulemaking Portal: Go to http://www.regulations.gov. Follow the instructions for submitting comments.

Fax: (202) 493-2251.

Mail: U.S. Department of Transportation, Docket Operations, M-30, West Building Ground Floor, Room W12-140, 1200 New Jersey Avenue SE., Washington, DC 20590.

Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Simmonds Precision Products, Inc., A UTC Aerospace Company, 100 Panton Road, Vergennes, Vermont 05491; phone 802-877-2911; fax 802-877-4444; Internet http://www.utcaerospacesystems.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-4204; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Marc Ronell, Aerospace Engineer, Boston Aircraft Certification Office, FAA, 12 New England Executive Park, Burlington, MA 01803; phone: 781-238-7776; fax: 781-238-7170; email: marc.ronell@faa.gov.

SUPPLEMENTARY INFORMATION:

Comments Invited

We invite you to send any written relevant data, views, or arguments about this proposed AD. Send your comments to an address listed under the ADDRESSES section. Include “Docket No. FAA-2015-4204; Directorate Identifier 2015-NM-001-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, issued EASA Airworthiness Directive 2013-0193, dated August 23, 2013 (referred to after this as the Mandatory Continuing Airworthiness Information, or “the MCAI”), to correct an unsafe condition for all Airbus Model A300 series airplanes and all Model A300-600 series airplanes.

The MCAI corresponds to FAA AD 2015-03-03, Amendment 39-18099 (80 FR 11101, March 2, 2015), which applies to Airbus Model A300 series airplanes and Model A300-600 series airplanes, all serial numbers, except for airplanes modified by supplemental type certificate ST00092BO (http://rgl.faa.gov/Regulatory_and_Guidance_Library/rgstc.nsf/0/D41C5AE8E46B4901862574900069E004?OpenDocument&Highlight=st00092bo).

In AD 2015-03-03, Amendment 39-18099 (80 FR 11101, March 2, 2015), we explained that airplanes that have had the in-tank fuel quantity system modified by STC ST00092BO cannot accomplish the actions required by AD 2015-03-03 by using Airbus Service Bulletin A300-28-6109, Revision 01, dated December 20, 2013.

We also stated that we were considering separate rulemaking to require the procedures and compliance time specified in UTC Aerospace Systems Service Bulletin 300723-28-03 (V-1577), dated October 10, 2014, for airplanes modified by STC ST00092BO. We now have determined that further rulemaking is indeed necessary, and this proposed AD follows from that determination.

Related Service Information Under 1 CFR Part 51

UTC Aerospace Systems has issued Service Bulletin 300723-28-03 (V-1577), Revision 01, dated July 20, 2015. The service information describes procedures for an inspection for damage of the outer tank of the overflow sensor harness, repair, and modification of the sensor harness. This service information is reasonably available because the interested parties have access to it through their normal course of business or by the means identified in the ADDRESSES section of this AD.

FAA's Determination

We are proposing this AD because we evaluated all the relevant information and determined the unsafe condition described previously is likely to exist or develop in other products of these same type designs.

Proposed AD Requirements

This proposed AD would require accomplishing the actions specified in the service information described previously.

Costs of Compliance

We estimate that this proposed AD affects 65 airplanes of U.S. registry.

We also estimate that it would take about 3 work-hours per product to comply with the inspections required by this proposed AD. The average labor rate is $85 per work-hour. Based on these figures, we estimate the cost of this inspection proposed by this AD on U.S. operators to be $16,575, or $255 per product.

We estimate that it takes about 11 work-hours per product to comply with the modification requirements of this AD. The average labor rate is $85 per work-hour. Required parts cost about $100 per product. Based on these figures, we estimate the cost of this modification on U.S. operators to be $67,275, or $1,035 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-4204; Directorate Identifier 2015-NM-001-AD.

(a) Comments Due Date

We must receive comments by December 7, 2015.

(b) Affected ADs

None.

(c) Applicability

This AD applies to the Airbus airplanes specified in paragraphs (c)(1), (c)(2), (c)(3), and (c)(4) of this AD; certificated in any category; modified by Simmonds Precision Products, Inc., supplemental type certificate (STC) ST00092BO (http://rgl.faa.gov/Regulatory_and_Guidance_Library/rgstc.nsf/0/D41C5AE8E46B4901862v574900069E004?OpenDocument&Highlight=st00092bo).

(1) Model A300 B4-601, B4-603, B4-620, and B4-622 airplanes.

(2) Model A300 B4-605R and B4-622R airplanes.

(3) Model A300 F4-605R and F4-622R airplanes.

(4) Model A300 C4-605R Variant F airplanes.

(d) Subject

Air Transport Association (ATA) of America Code 28, Fuel.

(e) Reason

This AD was prompted by a report of chafing found on the overflow sensor harness of the surge tank, and subsequent contact between the electrical wiring and fuel tank structure. We are issuing this AD to prevent chafing of the harness and subsequent contact between the electrical wiring and fuel tank structure, which could result in electrical arcing and a fuel tank explosion.

(f) Compliance

Comply with this AD within the compliance times specified, unless already done.

(g) One-Time Inspection and Repair

Within 12 months after the effective date of this AD: Do the actions required by paragraphs (g)(1), (g)(2), and (g)(3) of this AD, in accordance with the Accomplishment Instructions of UTC Aerospace Systems Service Bulletin 300723-28-03 (V-1577), Revision 01, dated July 20, 2015.

(1) Perform a one-time general visual inspection for damage of the outer tank sensor harness, and if any damage is found on the expando sleeving, before further flight, do a detailed inspection of the underlying wires for exposed conductor wires. If any exposed conductor wire is found, before further flight, replace the outer wing harness assembly.

(2) Install new brackets and re-route the surge tank overflow sensor harness.

(3) Modify the harness protection.

(h) Credit for Previous Actions

This paragraph provides credit for actions required by paragraph (g) of this AD, if those actions were performed before the effective date of this AD using UTC Aerospace Systems Service Bulletin 300723-28-03 (V-1577), dated October 10, 2014. This service information is not incorporated by reference in this AD.

(i) Alternative Methods of Compliance (AMOCs)

(1) The Manager, Boston Aircraft Certification Office (ACO) ANE-150, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j)(1) of this AD.

(2) Before using any approved AMOC, notify your appropriate principal inspector, or lacking a principal inspector, the manager of the local flight standards district office/certificate holding district office.

(j) Related Information

(1) For more information about this AD, contact Marc Ronell, Aerospace Engineer, Boston ACO, FAA, 12 New England Executive Park, Burlington, MA 01803; phone: 781-238-7776; fax: 781-238-7170; email: marc.ronell@faa.gov.

(2) For service information identified in this AD, contact Simmonds Precision Products, Inc., A UTC Aerospace Company, 100 Panton Road, Vergennes, Vermont 05491; phone 802-877-2911; fax 802-877-4444; Internet http://www.utcaerospacesystems.com. You may view this referenced service information at the FAA, Transport Airplane Directorate, 1601 Lind Avenue SW., Renton, WA. For information on the availability of this material at the FAA, call 425-227-1221.

Issued in Renton, Washington, on October 15, 2015.
Jeffrey E. Duven,
Manager, Transport Airplane Directorate, Aircraft Certification Service.

[FR Doc. 2015-26691 Filed 10-22-15; 8:45 am]

BILLING CODE 4910-13-P